SOCIAL SECURITY ADMINISTRATION

Agency Information Collection Activities: Emergency Consideration Request

In compliance with Public Law 104-13, the Paperwork Reduction Act of 1995, the Social Security Administration (SSA) is providing notice of its information collections that require submission to the Office of Management and Budget (OMB). SSA is requesting emergency consideration from OMB by 02/16/2000 of the information collections listed below.

1. Request to be Selected as Payee—0960-0014. The information collected on Form SSA-11-BK is used to determine the proper payee for a Social Security beneficiary, and it is designed to aid in the investigation of a payee applicant. The form will establish the applicant's relationship to the beneficiary, the justification, the concern for the beneficiary and the manner in which the benefits will be used. The respondents are applicants for selection as representative payee for Old Age, Survivors and Disability Insurance (OASDI), Supplemental Security Income (SSI), Black Lung benefits and title-VIII Special Veterans Benefits.

Number of Respondents: 2,121,686.

Frequency of Response: 1.

Average Burden Per Response: 10.5 minutes.

Estimated Annual Burden: 371,295 hours.

2. Application for Special Benefits for World War II Veterans-0960-NEW. The information collected on Form SSA-2000 will be used by the Social Security Administration to elicit the information necessary to determine entitlement of an individual to benefits under title VIII of the Social Security Act. Respondents are certain World War II Veterans as identified under title VIII.

Number of Respondents: 12,000.

Frequency of Response: 1.

Average Burden Per Response: 20 minutes.

Estimated Annual Burden: 4,000 hours.

Background Information

In November 1999, Congress passed the Foster Care Independence Act, and on December 14, 1999, the President signed it into law (Pub. L. 106-169). An important part of this legislation, section 251, creates a new title VIII of the Social Security Act, which is a new program for SSA to administer. Title VIII provides for a program of special benefits for certain World War II veterans as defined below:

Veterans of the U.S. military and the organized military forces of the Philippines (while in the service of the U.S. Armed Forces) during World War II, who are age 65 or older on or before December 14, 1999 and who are eligible for SSI benefits in both the month of enactment and the month of application for the Special Veterans Benefit (SVB), and whose total benefit income is less than the title VIII benefit amount, are entitled to a title VIII benefit for each month the individual resides outside the United States.

The law provides that an individual who meets all statutory requirements will be entitled to title VIII benefits beginning with October 2000, or such earlier month that the Commissioner determines is administratively feasible.

In recognition of the stated desire of many foreign-born potential applicants for special benefits under SVB to return to their homelands, SSA is targeting its implementation efforts to begin payments as early as May 2000.

Accordingly SSA has revised the SSA-11-BK, Request to be Selected as Payee, to include payee applicants under title VIII, and has developed the new SSA-2000, Application for Special Benefits for World War II Veterans, in order to administer the title VIII program.

You can obtain a copy of the collection instruments and/or OMB clearance packages by calling the SSA Reports Clearance Officer on (410) 965-4145, or by writing to him at: Social Security Administration, DCFAM,Attn: Frederick W. Brickenkamp, 6401 Security Blvd., 1-A-21 Operations Bldg., Baltimore, MD 21235.

Dated: February 1, 2000.
Frederick W. Brickenkamp,
Reports Clearance Officer.

[FR Doc. 00-2727 Filed 2-7-00; 8:45 am]

BILLING CODE 4190-29-P